DEPARTMENT OF DEFENSE

Office of the Secretary

[Transmittal No. 25-102]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-102, Policy Justification, and Sensitivity of Technology.

Dated: January 26, 2026.
Stephanie J. Bost,
Alternate OSD Federal Register Liaison Officer, Department of Defense.

BILLING CODE 6001-FR-P

BILLING CODE 6001-FR-C

Transmittal No. 25-102

Notice of Proposed Issuance of Letter of Offer Pursuant to Section 36(b)(1) of the Arms Export Control Act, as amended

(i) Prospective Purchaser: Government of Denmark

(ii) Total Estimated Value:

Major Defense Equipment * | $1.25 billion
Other | $ .55 billion
TOTAL | $1.80 billion

Funding Source: National Funds

(iii) Description and Quantity or Quantities of Articles or Services under Consideration for Purchase:

Major Defense Equipment (MDE):

Three (3) P-8A Patrol Aircraft

Four (4) Multifunctional Distribution System Joint Tactical Radio Systems

Four (4) Guardian Laser Transmitter Assemblies for the AN/AAQ-24(V)N

Four (4) System processor replacements for AN/AAQ-24(V)N with Selective Availability Anti-spoofing Modules (SAASMs)

Eight (8) LN-251 with Embedded Global Positioning Systems/Inertial Navigations Systems with SAASMs

Non-Major Defense Equipment:

The following non-MDE items will be included: Tactical Open Mission Software; electro-optical and infrared MX-20HD systems; NexGEN Missile Warning Sensors for the AN/AAQ-24(V)N; AN/AAQ-2(V) acoustic systems; AN/APY-10 radar systems; ALQ-213 early warning management systems; A/N UPX-43 interrogators; KIV-78A cryptographic appliqués; A/N APX-123A Identification Friend or Foe transmitters; AN/ARC-210 ultra high frequency/very high frequency radios; AN/ALE-47 Countermeasures Dispenser System (CMDS) programmers; KY-100M communications security (COMSEC) devices; United States (U.S.) Government and contractor engineering, technical, and logistics support services; and other related elements of logistics and program support.

(iv) Military Department: Navy (DE-P-LCE)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: December 29, 2025

* as defined in Section 47(6) of the Arms Export Control Act.

POLICY JUSTIFICATION

Denmark—Multi-Mission Maritime Patrol and Reconnaissance Aircraft P-8A

The Government of Denmark has requested to buy up to three (3) P-8A Patrol Aircraft; four (4) Multifunctional Distribution System Joint Tactical Radio Systems; four (4) Guardian Laser Transmitter Assemblies for the AN/AAQ-24(V)N; four (4) system processor replacements for AN/AAQ-24(V)N with Selective Availability Anti-spoofing Modules (SAASMs); and eight (8) LN-251 with Embedded Global Positioning Systems/Inertial Navigations Systems with SAASMs. The following non-MDE items will be included: Tactical Open Mission Software; electro-optical and infrared MX-20HD systems; NexGEN Missile Warning Sensors for the AN/AAQ-24(V)N; AN/AAQ-2(V) acoustic systems; AN/APY-10 radar systems; ALQ-213 early warning management systems; A/N UPX-43 interrogators; KIV-78A cryptographic appliqués; A/N APX-123A Identification Friend or Foe transmitters; AN/ARC-210 ultra-high frequency/very high frequency radios; AN/ALE-47 Countermeasures Dispenser System (CMDS) programmers; KY-100M communications security (COMSEC) devices; U.S. Government and contractor engineering, technical, and logistics support services; and other related elements of logistics and program support. The total estimated cost is $1.8 billion.

This proposed sale will support the foreign policy goals and national security objectives of the U.S. by improving the security of a NATO Ally that is a force for political stability and economic progress in Europe.

The proposed sale will enhance Denmark's capability to meet current and future threats by providing a credible force that is capable of deterring adversaries and participating in NATO operations. The proposed sale will support its goal of improving national and territorial defense as well as interoperability with U.S. and NATO forces. Denmark will have no difficulty absorbing this equipment into its armed forces.

The proposed sale of this equipment and support will not alter the military balance in the region.

The principal contractor will be The Boeing Company, located in Arlington, VA. At this time, the U.S. Government is unaware of any offset agreement proposed in connection with this potential sale. Any offset agreement will be defined in negotiations.

Implementation of this proposed sale will require 11 to 14 U.S. Government and contractor representatives to travel to Denmark for a duration of up to two years to support: aircraft fielding and maintenance, mission systems, training, and logistics and engineering technical assistance.

There will be no adverse impact on defense readiness as a result of this proposed sale.

Transmittal No. 25-102

Notice of Proposed Issuance of Letter of Offer Pursuant to Section 36(b)(1) of the Arms Export Control Act

Annex

Item No. vii

Sensitivity of Technology:

1. The P-8A aircraft is a militarized version of the Boeing 737-800 Next Generation (NG) commercial aircraft. The P-8A is a long-range antisubmarine and anti-surface warfare intelligence, surveillance, and reconnaissance (ISR) aircraft capable of broad-area, maritime, and littoral operations.

2. The Multifunctional Information Distribution System—Joint Tactical Radio System (MIDS JTRS) is an advanced Link-16 command, control, communications, and intelligence (C3I) system. The MIDS-JTRS provides high-capacity, jam-resistant, digital communication links for exchange of near real-time tactical information, including both data and voice, among air, ground, and sea elements.

3. The Guardian Laser Transmitter Assembly (GLTA) is part of the AN/AAQ-24(V)N Direct Infrared Countermeasures (DIRCM) system. The GLTA accepts threat handoff from the mission workstation subsystem, tracks threats using an infrared (IR) camera, and provides high intensity laser jamming to defend against IR missile threats.

4. The Large Aircraft Infrared Countermeasures System (LAIRCM) System Processor Replacement (LSPR) analyzes the data from each Missile Warning Sensor and automatically deploys the appropriate countermeasure via the GLTA. The LSPR contains built-in-test circuitry.

5. The Embedded Global Positioning System (GPS) Inertial Navigation System (INS) (EGI) LN-251 is a sensor that combines GPS and inertial sensor inputs. The EGI/INS provides accurate location information for navigation and targeting.

6. The highest level of classification of defense articles, components, and services included in this potential sale is SECRET.

7. If a technologically advanced adversary were to obtain knowledge of the specific hardware and software elements, the information could be used to develop countermeasures that might reduce system effectiveness or be used in the development of a system with similar or advanced capabilities.

8. A determination has been made that the Government of Denmark can provide substantially the same degree of protection for the technology being released as the U.S. Government. This sale is necessary in furtherance of the U.S. foreign policy and national security objectives as outlined in the Policy Justification.

9. All defense articles and services listed in this transmittal have been authorized for release and export to the Government of Denmark.

[FR Doc. 2026-01722 Filed 1-28-26; 8:45 am]

BILLING CODE 6001-FR-P